DEPARTMENT OF HEALTH AND HUMAN SERVICES

Centers for Disease Control and Prevention

National Institution for Occupational Safety and Health (NIOSH) Advisory Board on Radiation and Worker Health (ABRWH or Advisory Board)

Correction: This notice was published in the Federal Register on May 22, 2007, Volume 72, Number 98, pages 28697-28698. The meeting was originally scheduled to be held at the Westin Westminster Hotel. The Committee will now convene at the Sheraton Denver West Hotel, 360 Union Boulevard, Lakewood, Colorado 80228, Phone 303.987.2000, Fax 303.969.0263.

Times and Dates:

9 a.m.-5 p.m., June 11, 2007.

8 a.m.-3 p.m., June 12, 2007.

Contact Person for More Information: Dr. Lewis V. Wade, Executive Secretary, NIOSH, CDC, 4676 Columbia Parkway, Cincinnati, Ohio 45226, Telephone 513.533.6825, Fax 513.533.6826.

The Director, Management Analysis and Services Office, has been delegated the authority to sign Federal Register notices pertaining to announcements of meetings and other committee management activities, for both CDC and the Agency for Toxic Substances and Disease Registry.

Dated: May 31, 2007.
Elaine L. Baker,
Acting Director, Management Analysis and Services Office Centers for Disease Control and Prevention.

[FR Doc. E7-10987 Filed 6-6-07; 8:45 am]

BILLING CODE 4163-18-P